ENVIRONMENTAL PROTECTION AGENCY

[FRL-9874-01-OW]

Notice of Availability of the Deepwater Horizon Oil Spill Texas Trustee Implementation Group Final Restoration Plan/Environmental Assessment #2: Restoration of Wetlands, Coastal, and Nearshore Habitats; Nutrient Reduction; Oysters; Sea Turtles; and Birds and Finding of No Significant Impact

AGENCY: Environmental Protection Agency (EPA).

ACTION: Notice of availability.

SUMMARY: In accordance with the Oil Pollution Act of 1990 (OPA) and the National Environmental Policy Act (NEPA), the Federal and State natural resource trustee agencies for the Texas Trustee Implementation Group (Texas TIG) prepared the Final Restoration Plan/Environmental Assessment #2: Restoration of Wetlands, Coastal, and Nearshore Habitats; Nutrient Reduction; Oysters; Sea Turtles; and Birds (Final RP/EA #2). The Final RP/EA #2 describes and, in conjunction with the associated Finding of No Significant Impact (FONSI), selects thirteen restoration project alternatives considered by the Texas TIG to restore natural resources and ecological services injured or lost as a result of the Deepwater Horizon oil spill. The Texas TIG evaluated these alternatives in accordance with the OPA, including criteria set forth in the OPA natural resource damage assessment (NRDA) regulations, and evaluated the environmental consequences of the restoration alternatives in accordance with the NEPA. The selected projects are consistent with the restoration alternatives selected in the Deepwater Horizon Oil Spill: Final Programmatic Damage Assessment and Restoration Plan and Final Programmatic Environmental Impact Statement (PDARP/PEIS). The Federal Trustees of the Texas TIG have determined that implementation of the Final RP/EA #2 is not a major Federal action significantly affecting the quality of the human environment within the context of the NEPA. They have concluded a FONSI is appropriate, and, therefore, an Environmental Impact Statement will not be prepared. This notice informs the public of the approval and availability of the Final RP/EA #2 and FONSI.

ADDRESSES: Obtaining Documents: You may download the Final RP/EA #2 and FONSI at https://www.gulfspillrestoration.noaa.gov/restoration-areas/texas. Alternatively, you may request a compact disc (CD) of the Final RP/EA #2 and FONSI (see FOR FURTHER INFORMATION CONTACT section). You may also view the Final RP/EA #2 and FONSI at the following locations:

• Port Arthur Public Library, 4615 9th Avenue, Port Arthur, TX 77642

• Jack K. Williams Library, Texas A&M University at Galveston, 200 Seawolf Parkway Building #3010, Galveston, TX 77554

• Mary and Jeff Bell Library, Texas A&M University—Corpus Christi, 6300 Ocean Drive, Corpus Christi, TX 78412

FOR FURTHER INFORMATION CONTACT:

• Texas—Angela Schrift; Angela.Schrift@tpwd.texas.gov; 512-389-8755.

• EPA—Douglas Jacobson; jacobson.doug@epa.gov; 214-665-6692.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in the release of an unprecedented volume of oil and other discharges from the rig and from the wellhead on the seabed. The Deepwater Horizon oil spill is the largest offshore oil spill in U.S. history, discharging millions of barrels of oil over a period of 87 days. The Trustees conducted the natural resource damage assessment for the Deepwater Horizon oil spill under the OPA. Under the OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the time restoration to baseline (i.e., the resource quality and conditions that would exist if the spill had not occurred) is complete.

The Deepwater Horizon oil spill Trustees are:

• U.S. Environmental Protection Agency (EPA);

• U.S. Department of the Interior (DOI), as represented by the National Park Service, U.S. Fish and Wildlife Service, and Bureau of Land Management;

• National Oceanic and Atmospheric Administration (NOAA), on behalf of the U.S. Department of Commerce;

• U.S. Department of Agriculture (USDA);

• State of Texas Parks and Wildlife Department (TPWD), General Land Office (TGLO), and Commission on Environmental Quality (TCEQ);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama; and

• State of Florida Department of Environmental Protection and Fish and Wildlife Conservation Commission.

On April 4, 2016, the Trustees reached and finalized a settlement of their natural resource damage claims with BP in a Consent Decree approved by the United States District Court for the Eastern District of Louisiana. Pursuant to that Consent Decree, restoration projects in the Texas Restoration Area are chosen and managed by the Texas TIG. The Texas TIG is composed of the following Trustees: TPWD, TGLO, TCEQ, EPA, DOI, NOAA, and USDA.

Background

A Notice of Availability of the Deepwater Horizon Oil Spill Texas Trustee Implementation Group Draft Restoration Plan/Environmental Assessment #2: Restoration of Wetlands, Coastal, and Nearshore Habitats; Nutrient Reduction; Oysters; Sea Turtles; and Birds (Draft RP/EA #2) was published in the Federal Register at 87 FR 10787 on February 25, 2022. The Texas TIG hosted a public webinar on March 9, 2022, and the public comment period for the Draft RP/EA #2 closed on March 28, 2022. In the Draft RP/EA #2, the Texas TIG evaluated eighteen restoration project alternatives in accordance with the OPA and the NEPA. Of these restoration project alternatives, thirteen were identified as preferred, and five were identified as non-preferred. The Draft RP/EA #2 also evaluated a no-action alternative. The Texas TIG considered the public comments received on the Draft RP/EA #2 which informed the Texas TIG's analyses and selection of thirteen restoration projects for implementation in the Final RP/EA #2. A summary of the public comments received and the Trustees' responses to those comments are included in Chapter 7 of the Final RP/EA #2.

Overview of the Final RP/EA

The Final RP/EA #2 is being released in accordance with the OPA, its NRDA implementing regulations, and the NEPA. In the Final RP/EA #2, the Texas TIG selects the following preferred project alternatives for each restoration type:

Wetlands, Coastal, and Nearshore Habitats

• Bird Island Cove Habitat Restoration—Construction;

• Bahia Grande Channel F Hydrologic Restoration;

• Follets Island Habitat Acquisition Phase 2; and

• Galveston Island Habitat Acquisition.

Nutrient Reduction

• Petronila Creek Constructed Wetlands Planning; and

• Petronila Creek Watershed Nutrient Reduction Initiative.

Oysters

• Landscape Scale Oyster Restoration in Galveston Bay.

Sea Turtles

• Upper Texas Coast Sea Turtle Rehabilitation Facility; and

• Reducing Sea Turtle Mortality through Removal of Illegal Fishing Gear.

Birds

• Laguna Vista Rookery Island Habitat Protection;

• Jones Bay Oystercatcher Habitat Restoration;

• San Antonio Bay Bird Island; and

• Texas Breeding Shorebird and Seabird Stewardship.

The total estimated cost of the selected restoration projects is approximately $39 million. The Texas TIG has examined the injuries assessed by the Deepwater Horizon Trustees and evaluated restoration alternatives to address the injuries. In the Final RP/EA #2, the Texas TIG presents to the public the Texas TIG's most recent plan to restore natural resources and ecological services injured or lost as a result of the Deepwater Horizon oil spill. Additional restoration planning for the Texas Restoration Area will continue.

Administrative Record

The documents comprising the Administrative Record for the Final RP/EA #2 and FONSI can be viewed electronically at https://www.doi.gov/deepwaterhorizon/adminrecord under folder 6.5.7.2.2.

Authority

The authority for this action is the OPA (33 U.S.C. 2701 et seq.), its implementing NRDA regulations found at 15 CFR part 990, and the NEPA (42 U.S.C. 4321 et seq.).

Benita Best-Wong,
Deputy Assistant Administrator, Office of Water.

[FR Doc. 2022-15846 Filed 7-28-22; 8:45 am]

BILLING CODE 6560-50-P